DEPARTMENT OF COMMERCE

National Oceanic and Atmospheric Administration

[RTID 0648-XE793]

Takes of Marine Mammals Incidental to Specified Activities; Taking Marine Mammals Incidental to Eareckson Air Station Fuel Pier Repair in Alcan Harbor on Shemya Island, Alaska

AGENCY: National Marine Fisheries Service (NMFS), National Oceanic and Atmospheric Administration (NOAA), Commerce.

ACTION: Notice; issuance of an incidental harassment authorization.

SUMMARY: In accordance with the regulations implementing the Marine Mammal Protection Act (MMPA) as amended, notification is hereby given that NMFS has issued an incidental harassment authorization (IHA) to the United States Air Force Pacific Air Forces Regional Support Center (USAF) to incidentally harass marine mammals during construction activities associated with a the Eareckson Air Station (EAS) Fuel Pier Repair project in Alcan Harbor on Shemya Island, Alaska.

DATES: This authorization is effective 1 year from the date of issuance.

ADDRESSES: Electronic copies of the original application and supporting documents, as well as a list of references cited in this document, may be obtained online at: https://www.fisheries.noaa.gov/permit/incidental-take-authorizations-under-marine-mammal-protection-act. In case of problems accessing these documents, please call the contact listed below.

FOR FURTHER INFORMATION CONTACT: Kate Fleming, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are proposed or, if the taking is limited to harassment, a notice of a proposed IHA is provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of the species or stocks for taking for certain subsistence uses (referred to in shorthand as “mitigation”); and requirements pertaining to the monitoring and reporting of the takings. The definitions of all applicable MMPA statutory terms used above are included in the relevant sections below and can be found in section 3 of the MMPA (16 U.S.C. 1362) and NMFS regulations at 50 CFR 216.103.

History of Request

On May 15, 2023, NMFS received an application from U.S. Army Corps of Engineers on behalf of USAF for an IHA to take marine mammals incidental to construction associated with the EAS Fuel Pier repair in Alcan Harbor on Shemya Island, Alaska. NMFS published a notice of a proposed IHA and request for comments in the Federal Register on October 10, 2023 (88 FR 74451). On March 5, 2024, NMFS issued an IHA that was effective from April 1, 2024 through March 31, 2025 (89 FR 17423, March 11, 2024). In-water work associated with the project was expected to be completed between April and October 2024.

On September 23, 2024, USAF informed NMFS that work on the project had experienced significant delays due to piling production delays and weather and would not be completed during the 2024 IHA time period USAF completed a portion of the construction work that was covered by the 2024 IHA and submitted a monitoring report demonstrating that the required mitigation and monitoring requirements were satisfied, no impacts of a scale or nature not previously analyzed or authorized occurred as a result of the activities conducted, and the IHA holder did not exceed the authorized levels of take under that IHA.

On September 23, 2024, NMFS received a letter from USAF requesting renewal of the 2024 IHA (2024 request) to conduct nearly identical construction activities that were previously analyzed under the 2024 IHA. On May 3, 2024, NMFS published (89 FR 36762) and solicited public comment on its draft updated Technical Guidance for Assessing the Effects of Anthropogenic Sound on Marine Mammal Hearing Underwater and In-Air Criteria for Onset of Auditory Injury and Temporary Threshold Shifts (Version 3.0) (2024 Technical Guidance), which includes updated thresholds and weighting functions to inform auditory injury (AUD INJ) estimates. The public comment period ended on June 17th, 2024, and the 2024 Technical Guidance was finalized on October 24, 2024. While USAF's planned activity would ordinarily qualify for a renewal of the IHA, NMFS determined that a renewal of the 2024 IHA is not appropriate in this case because application of the updated Guidance indicates that substantial modification of the prescribed shutdown zones and updates to authorized take numbers for certain species is appropriate.

On December 16, 2024, USAF revised their request to indicate that all work completed during the 2024 season would need to be redone, due to shifting sediments and improperly functioning piles. As such, the same work analyzed under the 2024 IHA is planned for the current IHA, across the same number of construction days. This includes the (1) installation of 208 42-inch (107 cm) round steel interlocking pipe piles (2) the installation of 60 30-inch (76 cm) steel template piles and, (3) the removal of 64 30-inch steel template piles, which includes the removal of 4 additional piles that were installed under the 2024 IHA.

Additionally, USAF also requested to reduce the size of the shutdown zones established for low-frequency cetaceans due to practicability concerns associated with excessive fog. Under this IHA, USAF plans to conduct pile driving activities between the in water work window dates of April 2025 through October 2025. The activities are nearly identical to those analyzed under the 2024 IHA, but the mitigation zones and number of authorized takes have been adjusted to account for the isopleths calculated using the 2024 Technical Guidance and the request to adjust the shutdown zone for low frequency cetaceans. The USAF request was deemed adequate and complete on January 23, 2024. In evaluating the request, and where applicable, NMFS relies on the information previously presented in notices associated with issuance of the 2024 IHA (88 FR 74451, October 31, 2023; 89 FR 17423, March 11, 2024).

Description of the Specified Activity and Anticipated Impacts

USAF is conducting long-term repairs on the only existing fuel pier at EAS on Shemya Island, Alaska. The activities that have the potential to take marine mammals, by Level A and Level B harassment, include down-the-hole drilling, vibratory and impact installation of temporary and permanent steel interlocking pipe piles, and vibratory removal of temporary steel interlocking pipe piles. The marine construction associated with the activities is planned to occur over 160 days, between April and October 2025. The IHA is effective from Date to Date.

The fuel pier replacement project includes the installation of an interlocking steel pipe combi-wall system, which requires (1) installation of 208 42″ round steel interlocking pipe piles (2) installation of 60 30-inch steel template pipe piles and (3) removal of 64 30″ template pipe piles, which includes the removal of 4 additional piles that were installed under the 2024 IHA, across the same number of construction days (n=160) between April and October 2025.

A detailed description of the construction project is provided in the Federal Register notice for the proposed 2024 IHA (88 FR 74451, October 31, 2023) and the proposed 2025 IHA (90 FR 11952, March 13, 2025). Therefore, a detailed description is not provided here. Please refer to the Federal Register notices for the description of the specific activity.

Comments and Responses

A notice of NMFS' proposal to issue an IHA to USAF was published in the Federal Register on DATE (90 FR 11952, March 13, 2025). That notice described, in detail, USAF's activity, the marine mammal species that may be affected by the activity, and the anticipated effects on marine mammals. In that notice, we requested public input on the request for authorization described therein, our analyses, the proposed authorization, and any other aspect of the notice of proposed IHA, and requested that persons submit relevant information, suggestions, and comments. During the 30-day public comment period, NMFS did not receive any substantive comments on the proposed IHA.

Description of Marine Mammals

A detailed description of the species likely to be affected by USAF's Fuel Pier Repair project, including brief introductions to the species and relevant stocks, available information regarding population trends and threats, and information regarding local occurrence, were provided in the Federal Register notice for the proposed IHA (88 FR 74451, October 31, 2023); since that time, we are not aware of any changes in the status of these species and stocks; therefore, detailed descriptions are not provided here. A summary of species is provided in table 1. NMFS reviewed the most recent SARs, including the draft 2024 SARs, (found on NMFS' website at https://www.fisheries.noaa.gov/national/marine-mammal-protection/marine-mammal-stock-assessments), up-to-date information on relevant Unusual Mortality Events (UMEs; https://www.fisheries.noaa.gov/national/marine-mammal-protection/marine-mammal-unusual-mortality-events), and recent scientific literature and determined that the new information does not change our original analysis of impacts under the 2024 IHA. Please refer to that Federal Register notice for these descriptions. Please also refer to NMFS' website (https://www.fisheries.noaa.gov/find-species) for generalized species accounts.

Table 1—Species Likely Impacted by the Specified Activities
Common name | Scientific name | Stock | ESA/MMPA status; strategic (Y/N) ¹ | Stock abundance (CV, Nmin, most recent abundance survey) ² | PBR | Annual M/SI ³
Order Artiodactyla—Infraorder Cetacea—Mysticeti (baleen whales)
Family Balaenopteridae:
Fin whale | Balaenoptera physalus | Northeast Pacific | E, D, Y | UND (UND, UND, 2013) ⁴ | UND | 0.6
Humpback whale | Megaptera novaeangliae | Western North Pacific | E, D, Y | 1,084, (0.088, 1,007, 2006) | 3.4 | 5.82
|  | Mexico—North Pacific | T, D, Y | N/A (N/A, N/A, 2006) ⁵ | UND | 0.56
|  | Hawai'i | -, -, N | 11,278 (0.56, 7,265, 2020) | 127 | 19.6
Minke whale | Balaenoptera acutorostrata | Alaska | -, -, - | N/A (N/A, N/A, N/A) ⁶ | UND | 0
Odontoceti (toothed whales, dolphins, and porpoises)
Family Physeteridae:
Sperm whale | Physeter macrocephalus | North Pacific | E, D, Y | UND (UND, UND, 2015) ⁷ | UND | 3.5
Family Ziphiidae (beaked whales):
Baird's beaked whale | Berardius bairdii | Alaska | -, -, N | N/A (N/A, N/A, N/A) ⁸ | N/A | 0
Stejneger's beaked whale | Mesoplodon stejnegeri | Alaska | -, -, N | N/A (N/A, N/A, N/A) ⁸ | N/A | 0
Family Delphinidae:
Killer whale | Orcinus orca | ENP Alaska Resident Stock | -, -, N | 1,920 (N/A, 1,920, 2019) | 19 | 1.3
|  | ENP Gulf of Alaska, Aleutian Islands, and Bering Sea | -, -, N | 587 (N/A, 587, 2012) | 5.9 | 0.8
Family Phocoenidae (porpoises):
Dall's porpoise | Phocoenoides dalli | Alaska | -, -, N | UND (UND, UND, 2015) ⁹ | UND | 37
Harbor porpoise | Phocoena phocoena | Bering Sea | -, -, N | UNK (UNK, N/A, 2008) ¹⁰ | UND | 1.8
Order Carnivora—Pinnipedia
Family Otariidae (eared seals and sea lions):
Northern fur seal | Callorhinus ursinus | Eastern Pacific | -, D, Y | 612,765 (0.2, 518,651, 2022) | 11,151 | 296
Steller sea lion | Eumetopias jubatus | Western, U.S. | E, D, Y | 49,837 (N/A, 49,837, 2022) ¹¹ | 299 | 267
Family Phocidae (earless seals):
Harbor seal | Phoca vitulina | Aleutian Islands | -, -, N | 5,588 (N/A, 5,366, 2018) | 97 | 90
¹ Endangered Species Act (ESA) status: Endangered (E), Threatened (T)/MMPA status: Depleted (D). A dash (-) indicates that the species is not listed under the ESA or designated as depleted under the MMPA. Under the MMPA, a strategic stock is one for which the level of direct human-caused mortality exceeds PBR or which is determined to be declining and likely to be listed under the ESA within the foreseeable future. Any species or stock listed under the ESA is automatically designated under the MMPA as depleted and as a strategic stock.
² NMFS marine mammal stock assessment reports online at: https://www.nmfs.noaa.gov/pr/sars. CV is coefficient of variation; Nmin is the minimum estimate of stock abundance. In some cases, CV is not applicable.
³ These values, found in NMFS's SARs, represent annual levels of human-caused mortality plus serious injury from all sources combined (e.g., commercial fisheries, vessel strike). Annual M/SI often cannot be determined precisely and is in some cases presented as a minimum value or range. A CV associated with estimated mortality due to commercial fisheries is presented in some cases.
⁴ The best available abundance estimate for this stock is not considered representative of the entire stock as surveys were limited to a small portion of the stock's range. Based upon this estimate and the Nmin, the PBR value is likely negatively biased for the entire stock.
⁵ Abundance estimates are based upon data collected more than 8 years ago and therefore current estimates are considered unknown.
⁶ Reliable population estimates are not available for this stock. Please see Friday et al. (2013) and Zerbini et al. (2006) for additional information on numbers of minke whales in Alaska.
⁷ The most recent abundance estimate is likely unreliable as it covered a small area that may not have included females and juveniles, and did not account for animals missed on the trackline. The calculated PBR is not a reliable index for the stock as it is based upon negatively biased minimum abundance estimate.
⁸ Reliable abundance estimates for this stock are currently unavailable.
⁹ The best available abundance estimate is likely an underestimate for the entire stock because it is based upon a survey that covered only a small portion of the stock's range.
¹⁰ The best available abundance estimate and Nmin are likely an underestimate for the entire stock because it is based upon a survey that covered only a small portion of the stock's range. PBR for this stock is undetermined due to this estimate being older than 8 years.
¹¹ Nest is best estimate of counts, which have not been corrected for animals at sea during abundance surveys. Estimates provided are for the U.S. only. The overall Nmin is 73,211 and overall PBR is 439.

Marine Mammal Hearing

Hearing is the most important sensory modality for marine mammals underwater, and exposure to anthropogenic sound can have deleterious effects. To appropriately assess the potential effects of exposure to sound, it is necessary to understand the frequency ranges marine mammals are able to hear. Not all marine mammal species have equal hearing capabilities (e.g., Richardson et al., 1995; Wartzok and Ketten, 1999; Au and Hastings, 2008). To reflect this, Southall et al. (2007, 2019) recommended that marine mammals be divided into hearing groups based on directly measured (behavioral or auditory evoked potential techniques) or estimated hearing ranges (behavioral response data, anatomical modeling, etc.). Subsequently, NMFS (2018, 2024) described generalized hearing ranges for these marine mammal hearing groups. Generalized hearing ranges were chosen based on the approximately 65-decibel (dB) threshold from the normalized composite audiograms, with the exception for lower limits for low-frequency cetaceans where the lower bound was deemed to be biologically implausible and the lower bound from Southall et al. (2007) retained. Note that since the issuance of the 2024 IHA, NMFS' 2024 Technical Guidance was finalized and has been incorporated into this analysis. The re-named marine mammal hearing groups that have been incorporated into this 2025 IHA are presented in table 2. The references, analysis, and methodology used in the development of the thresholds are described in the 2024 Technical Guidance, which may be accessed at: https://www.fisheries.noaa.gov/national/marine-mammal-protection/marine-mammal-acoustic-technical-guidance.

Table 2—Marine Mammal Hearing Groups
[NMFS 2024]
Hearing group | Generalized hearing range *
Low-frequency (LF) cetaceans (baleen whales) | 7 Hz to 36 kHz.
High-frequency (HF) cetaceans (dolphins, toothed whales, beaked whales, bottlenose whales) | 150 Hz to 160 kHz.
Very High-frequency (VHF) cetaceans (true porpoises, Kogia, river dolphins, Cephalorhynchid, Lagenorhynchus cruciger & L. australis) | 200 Hz to 165 kHz.
Phocid pinnipeds (PW) (underwater) (true seals) | 40 Hz to 90 kHz.
Otariid pinnipeds (OW) (underwater) (sea lions and fur seals) | 60 Hz to 68 kHz.
* Represents the generalized hearing range for the entire group as a composite (i.e., all species within the group), where individual species' hearing ranges may not be as broad. Generalized hearing range chosen based on ~65 dB threshold from composite audiogram, previous analysis in NMFS 2018, and/or data from Southall et al. 2007; Southall et al. 2019. Additionally, animals are able to detect very loud sounds above and below that “generalized” hearing range. Hz = Hertz. kHz = kilohertz.

For more detail concerning these groups and associated frequency ranges, please see NMFS (2024) for a review of available information.

Potential Effects on Marine Mammals and Their Habitat

The effects of underwater noise from USAF's construction activities have the potential to result in the harassment of marine mammals in the vicinity of the project area. The notice of proposed 2024 IHA (88 FR 74451, October 31, 2024) included a discussion of the effects of anthropogenic noise on marine mammals and the potential effects of underwater noise from USAF's construction on marine mammals and their habitat. That information and analysis is not repeated here; please refer to the notice of proposed 2024 IHA (88 FR 74451, October 31, 2024).

Estimated Take

A detailed description of the methods and inputs used to estimate authorized take is found in these previous documents. The methods of estimating take by Level B harassment for the 2025 IHA are identical to those used in the 2024 IHA. The source levels and days of operation remain unchanged from the previously issued IHA. Data reported in the marine mammal monitoring report suggest a greater occurrence of harbor seal than estimated for the 2024 IHA. To account for the revised isopleths, mitigation zones, and marine mammal occurrence information, take by Level A and Level B harassment has been revised for six species.

Level A harassment—NMFS' 2024 Technical Guidance (NMFS, 2024) identifies dual criteria to assess auditory injury (Level A harassment) to five different marine mammal groups (based on hearing sensitivity) as a result of exposure to noise from two different types of sources (impulsive or non-impulsive). Between the issuance of the 2024 IHA and this 2025 IHA, NMFS' 2024 Technical Guidance was updated and has been incorporated into this analysis. USAF's activity includes the use of impulsive (impact pile driving and down-the-hole drilling (DTH)) and non-impulsive (continuous pile driving and DTH) sources.

The updated thresholds, which identify the onset of AUD INJ based on the 2024 Technical Guidance, have been incorporated in this IHA are presented in table 3. The references, analysis, and methodology used in the development of the thresholds are described in the 2024 Technical Guidance, which may be accessed at: https://www.fisheries.noaa.gov/national/marine-mammal-protection/marine-mammal-acoustic-technical-guidance. NMFS defines AUD INJ as “damage to the inner ear that can result in destruction of tissue. . .which may or may not result in PTS” (NMFS 2024). NMFS defined PTS as a permanent, irreversible increase in the threshold of audibility at a specified frequency or portion of an individual's hearing range above a previously established reference level (NMFS, 2024).

Table 3—Thresholds Identifying the Onset of Auditory Injury Based on 2024 Technical Guidance
Hearing group | AUD INJ onset thresholds * (received level): Impulsive | AUD INJ onset thresholds * (received level): Non-impulsive
Low-Frequency (LF) Cetaceans | Cell 1: Lp,0-pk,flat: 222 dB; LE,p,LF,24h: 183 dB | Cell 2: LE,p,LF,24h: 197 dB.
High-Frequency (HF) Cetaceans | Cell 3: Lp,0-pk,flat: 230 dB; LE,p,HF,24h: 193 dB | Cell 4: LE,p,HF,24h: 201 dB.
Very High-Frequency (VHF) Cetaceans | Cell 5: Lp,0-pk,flat: 202 dB; LE,p,VHF,24h: 159 dB | Cell 6: LE,p,VHF,24h: 181 dB.
Phocid Pinnipeds (PW) (Underwater) | Cell 7: Lp,0-pk,flat: 223 dB; LE,p,PW,24h: 183 dB | Cell 8: LE,p,PW,24h: 195 dB.
Otariid Pinnipeds (OW) (Underwater) | Cell 9: Lp,0-pk,flat: 230 dB; LE,p,OW,24h: 185 dB | Cell 10: LE,p,OW,24h: 199 dB.
* Dual metric thresholds for impulsive sounds: Use whichever results in the largest isopleth for calculating AUD INJ onset. If a non-impulsive sound has the potential of exceeding the peak sound pressure level thresholds associated with impulsive sounds, these thresholds are recommended for consideration.
Note: Peak sound pressure level (Lp,0-pk) has a reference value of 1 micropascal (μPa), and weighted cumulative sound exposure level (LE,p) has a reference value of 1μPa²s. In this table, thresholds are abbreviated to be more reflective of International Organization for Standardization standards (ISO 2017). The subscript “flat” is being included to indicate peak sound pressure are flat weighted or unweighted within the generalized hearing range of marine mammals [i.e., 7 Hz to 165 kHz]. The subscript associated with cumulative sound exposure level thresholds indicates the designated marine mammal auditory weighting function (LF, HF, and VHF cetaceans, and PW and OW pinnipeds) and that the recommended accumulation period is 24 hours. The weighted cumulative sound exposure level thresholds could be exceeded in a multitude of ways (i.e., varying exposure levels and durations, duty cycle). When possible, it is valuable for action proponents to indicate the conditions under which these thresholds will be exceeded.

Ensonified Area

Here, we describe operational and environmental parameters of the activity that are used in estimating the area ensonified above the acoustic thresholds, including source levels and transmission loss coefficient.

The sound field in the project area is the existing background noise plus additional construction noise from the planned project. Marine mammals are expected to be affected via sound generated by the primary components of the project (i.e., pile driving and removal).

The project includes vibratory pile installation and removal, impact pile driving, and DTH. Source levels for these activities are based on reviews of measurements of the same or similar types and dimensions of piles available in the literature. Source levels for each pile size and activity each year are presented in table 4. Source levels for vibratory installation and removal of piles of the same diameter are assumed to be the same.

Table 4—Estimates of Mean Underwater Sound Levels * Generated During Vibratory, Impact, and DTH Pile Installation and Vibratory Pile Removal at 10 m
Pile driving method | Pile type | Pile size | dB RMS | dBPeak | dBSEL | Reference
Vibratory Installation and Removal | Temporary steel pipe pile | 30 | 166 | N/A | N/A | NMFS 2023 Analysis.
| Round interlocking steel pipe pile | 42 | 168.2 | N/A | N/A | Port of Anchorage Test Pile Program (table 16 in Austen et al., 2016).
Impact Installation | Temporary steel pipe pile | 30 | 191 | 212 | 171 | Caltrans, 2020.
| Round interlocking steel pipe pile | 42 | 192 | 213 | 179 | Caltrans, 2020.
Down-the-Hole Installation | Temporary steel pipe pile | 30 | 174 | ** 194 | ** 164 | Reyff & Heyvaert 2019, Reyff, 2020, Denes et al., 2019.
| Round interlocking steel pipe pile | 42 | 174 | ** 194 | ** 164 | Reyff & Heyvaert 2019, Reyff, 2020, Denes et al., 2019.
Note: dB peak = peak sound level; rms = root mean square; SEL = sound exposure level.
* All sound levels are referenced at 10 m.
** A typographical error has been corrected in which the sound levels listed for DTH activities (dB Peak and dB SEL) were incorrectly listed in the other's respective column.

TL is the decrease in acoustic intensity as an acoustic pressure wave propagates out from a source. TL parameters vary with frequency, temperature, sea conditions, current, source and receiver depth, water depth, water chemistry, and bottom composition and topography. The general formula for underwater TL is:

TL = B × Log10 (R1/R2),

where:

TL = transmission loss in dB

B = transmission loss coefficient

R1 = the distance of the modeled SPL from the driven pile, and

R2 = the distance from the driven pile of the initial measurement

Absent site-specific acoustical monitoring with differing measured TL, a practical spreading value of 15 is used as the TL coefficient in the above formula. Site-specific TL data for Alcan Harbor are not available; therefore, the default coefficient of 15 is used to determine the distances to the Level A harassment and Level B harassment thresholds.

The ensonified area associated with Level A harassment is more technically challenging to predict due to the need to account for a duration component. Therefore, NMFS developed an optional User Spreadsheet tool to accompany the 2024 Technical Guidance that can be used to relatively simply predict an isopleth distance for use in conjunction with marine mammal density or occurrence to help predict potential takes. We note that because of some of the assumptions included in the methods underlying this optional tool, we anticipate that the resulting isopleth estimates are typically going to be overestimates of some degree, which may result in an overestimate of potential take by Level A harassment. However, this optional tool offers the best way to estimate isopleth distances when more sophisticated modeling methods are not available or practical. For stationary sources such as pile driving, the optional User Spreadsheet tool predicts the distance at which, if a marine mammal remained at that distance for the duration of the activity, it would be expected to incur AUD INJ, which includes, but is not limited to, PTS. Inputs used in the optional User Spreadsheet tool are identical to those analyzed under the 2024 IHA. Table 5 provides the calculated Level A harassment isopleths that are based the 2024 Technical Guidance that are incorporated into this analysis compared with the calculated Level A harassment isopleths that were based on the 2018 Technical Guidance and presented in the proposed FRN for the 2024 IHA (88 FR 74451, October 31, 2023).

There were no substantive changes to Level A harassment isopleths for low frequency cetaceans (they increased slightly during vibratory activities and decreased slightly during impact pile driving). However, for high-frequency cetaceans (categorized as mid-frequency cetaceans prior to application of the 2024 Technical Guidance), phocids, and otariids, Level A harassment isopleths increased substantially during all pile driving activities. Additionally, for very high frequency cetaceans (categorized as high frequency cetaceans prior to application of the 2024 Technical Guidance), Level A harassment isopleths decreased slightly during vibratory activities and substantially during impact pile driving.

Table 5—Level A Harassment and Level B Harassment Isopleths and Associated Areas From Vibratory and Impact Pile Driving, Vibratory Removal, and DTH Drilling Using the 2024 Technical Guidance
[Level A harassment isopleths based on 2018 guidance, used in the 2024 IHA analysis, are presented in parentheses]
Pile size/type | Level A harassment isopleths (m): LF | Level A harassment isopleths (m): HF ¹ | Level A harassment isopleths (m): VHF ² | Level A harassment isopleths (m): PW | Level A harassment isopleths (m): OW | Level B harassment isopleth (m)
Vibratory
42-inch Interlocking Steel | 44.2 (32.7) | 17.0 (2.9) | 36.1 (48.4) | 56.9 (19.9) | 19.2 (1.4) | 16,343
30-inch Steel Pipe | 19.9 (14.7) | 7.6 (1.3) | 16.2 (21.8) | 25.6 (8.9) | 8.6 (0.6) | 11,659
DTH
42-inch Interlocking Steel | 2,540 (2,549.4) | 324.1 (90.7) | 3,930.8 (3,036.7) | 2,256.5 (1,364.3) | 841.1 (99.3) | 39,811
30-inch Steel Pipe | 2,249.4 (2,257.6) | 287.0 (80.3) | 3,480.9 (2,689.2) | 1,998.2 (1,208.2) | 744.9 (88) | 39,811
Impact
42-inch Interlocking Steel | 2007.8 (2.015.1) | 256.2 (71.7) | 3,107.0 (2,400.3) | 1,783.6 (1,078.4) | 664.9 (78.5) | 1,359
30-inch Steel Pipe | 930.4 (933.8) | 118.7 (33.2) | 1,439.9 (1,112.3) | 826.6 (499.7) | 308.1 (36.4) | 1,166
¹ Species that were considered Mid-Frequency cetaceans under the NMFS 2018 Technical Guidance are now considered High Frequency cetaceans.
² Species that were considered High-Frequency cetaceans under the NMFS 2018 Technical Guidance are now considered Very High Frequency cetaceans.

Except for harbor seal, the same occurrence assumptions that were used to estimate take for the 2024 IHA and described in the associated proposed FRN (88 FR 74451, October 31, 2024) are applied here, as is the same duration information. In cases where site specific marine mammal monitoring data are available, marine mammal occurrence assumptions and pile driving durations are based on hourly estimates. In cases where no marine mammal observations were reported, marine mammal occurrence assumptions and pile driving durations are based on daily estimates.

During monitoring completed in 2024, 29 harbor seal and 6 Steller sea lion were observed in the project area (at a rate of 0.45 and 0.09 groups of one of each species per hour, respectively). A total of six harbor seal and two Steller sea lion were reported within the Level B harassment zone while construction activities were underway. This suggests a revision to harbor seal occurrence estimates is appropriate; 0.45 harbor seals per hour were reported during 2024 activities rather than the previously estimated 0.14 harbor seal per hour used in the analysis for the 2024 IHA.

The equation used to estimate take by Level B harassment for all species is:

Exposure Estimate = marine mammal occurrence × duration of pile driving

During all vibratory pile driving activities for all hearing groups, and during all other activities for high frequency cetaceans (categorized as mid-frequency cetaceans in the 2024 IHA and prior to the application of the 2024 Technical Guidance) USAF will implement shutdown zones equivalent to the estimated Level A harassment isopleths. For all other hearing groups, during DTH and impact pile driving, shutdown zones are established at the distance that these species are assumed to be able to be reliably observed under typical conditions at the location (1000 meters (m) for LF, 500 m for VHF, previously categorized as HF in the 2024 IHA and prior to the application of the 2024 Technical Guidance; and 400 m for pinnipeds).

To calculate estimated take by Level A harassment in cases where the Level A harassment isopleth is larger than the Level B harassment isopleth, the same equation to estimate take by Level B harassment is applied. Exposure estimates for those activities are attributed to take by Level A harassment.

To calculate estimated take by Level A harassment in cases where the Level A harassment isopleth is larger than the planned shutdown zone, but smaller than the Level B harassment isopleth, we proportionally compared, by hearing group, the portion of the largest Level A harassment area (square kilometers (km²)) that exceeds the planned shutdown zone area (km²) to the area (km²) (referred to as the Level A harassment impact area) of the largest Level B harassment isopleth across that pile type (typically from vibratory pile driving). This ratio was then multiplied by the total estimated marine mammal exposures:

Take by Level A harassment = Level A harassment impact area (km²)/Level B harassment area (km²) × total marine mammal exposures.

Monitoring data collected during work at the project site indicate that all Steller sea lion were observed within 200 m of the project site, and harbor seal were observed between 50 m and 500 m in 2021 and 85 and 600 m in 2024. As such, for harbor seal and Steller sea lion, NMFS determined that the methods above could underestimate potential take by Level A harassment. NMFS accordingly estimated additional takes by Level A harassment by determining the ratio of each species that were observed beyond the shutdown zone compared to the number of individuals that were observed closer to construction activities during the EAS fuel pier emergency repair completed in 2021 and 2024, and multiplying this ratio by the total exposures.

Note that in the 2024 IHA, an additional approach to estimate take by Level A harassment was employed to account for cases in which a shutdown zone was established at the Level A harassment isopleth, but a portion of the shutdown zone was not expected to be reliably observable. Since the shutdown zones for low frequency cetaceans have been reduced to address practicability concerns, this scenario is no longer applicable and as such, that approach is not summarized here or applied to take estimates for any hearing group.

Fin Whale

One group of eight fin whale is predicted every 2 construction months (60 days). The duration of the construction is 160 days (2.65 is the basic 60 day period that corresponds to 2 construction months). This results in 21 takes by Level B harassment of fin whale (8 fin whale × 2.65 2-month periods).

During DTH activities, the Level A harassment isopleth is larger than the shutdown zone, but smaller than the Level B harassment isopleth. Estimated take by Level A harassment for these activities results in 0.084 based on (5.8 km²/1,285.9 km²) × 21 fin whale exposures = 0.084 takes by Level A harassment. During impact pile driving of 42-inch piles, the Level A harassment isopleth is larger than the Level B harassment isopleth. Estimated take by Level A harassment for these activities results in 6.88 based on 8 fin whale × 0.86 months of 42-inch impact pile driving.

Takes by Level B harassment were modified to deduct the amount of take by Level A harassment (i.e., 21 − 6.88 − 0.084 = 14). Therefore, NMFS authorizes 7 takes by Level A harassment and 14 takes by Level B harassment for fin whale, for a total of 21 takes.

Humpback Whale

A total of 0.07 groups of two humpback whale are predicted every construction hour. The duration of the construction hours is 1,101. This results in 154 takes by Level B harassment of humpback whale (0.07 groups × 2 humpback whale × 1,101 hours).

During DTH activities, the Level A harassment isopleth is larger than the shutdown zone, but smaller than the Level B harassment isopleth. Estimated take by Level A harassment for these activities results in 0.616 based on (5.8 km²/1,285.9 km²) × 154 exposures = 0.616 takes by Level A harassment. During impact pile driving of 42-inch piles, the Level A harassment isopleth is larger than the Level B harassment isopleth. Estimated take by Level A harassment for these activities results in 21.84 based on 0.07 humpback whales × 2 groups × 156 hours.

Takes by Level B harassment were modified to deduct the amount of take by Level A harassment (i.e., 154−21.84−0.616 = 131). Therefore, NMFS authorizes 23 takes by Level A harassment for humpback whale and 131 takes by Level B harassment for humpback whale, for a total of 22 takes.

Minke Whale

One group of three minke whale is predicted every 2 construction months (60 days). The duration of the construction is 160 days (2.65 is the basic 60 day period that corresponds to 2 construction months). This results in eight takes by Level B harassment of minke whale (3 minke whale × 2.65 2-month periods).

During DTH activities, the Level A harassment isopleth is larger than the shutdown zone, but smaller than the Level B harassment isopleth. Estimated take by Level A harassment for these activities results in 0.032 based on (5.8 km²/1,285.9 km²) × 8 minke whale exposures = 0.032 takes by Level A harassment. During impact pile driving of 42-inch piles, the Level A harassment zone is larger than the Level B harassment zone. Estimated take by Level A harassment for these activities results in 2.58 minke whale based on 3 minke whale × 0.86 months of 42-inch impact pile driving. Takes by Level B harassment were modified to deduct the amount of take by Level A harassment (i.e., 8−2.58−0.032 = 5). Therefore, NMFS authorizes three takes by Level A harassment and five takes by Level B harassment for minke whale, for a total of eight takes.

Sperm Whale

Two groups of four sperm whale is predicted every 1 construction month. The duration of the construction is 5 months. This results in 40 takes by Level B harassment of sperm whale (2 groups × 4 sperm whale × 5 construction months).

Takes by Level A harassment for sperm whales are not anticipated nor are they authorized.

Baird's Beaked Whale

One group of 10 Baird's beaked whales is predicted across the project, which is based on this species being shy and preferring deep waters and as such the applicant predicted they would be very rare in the project area. Therefore, NMFS authorizes 10 takes of Baird's beaked whale by Level B harassment.

Takes by Level A harassment for Baird's beaked whale were not anticipated nor are they authorized.

Stejneger's Beaked Whale

One group of eight Stejneger's beaked whales is predicted across the project, which is based on this species being shy and preferring deep waters and as such the applicant predicted they would be very rare in the project area. Therefore, NMFS authorizes eight takes of Stejneger's beaked whale by Level B harassment.

Takes by Level A harassment for Stejneger's beaked whale were not anticipated nor are they authorized.

Killer Whale

A total of 0.02 groups of 8 killer whale is predicted every construction hour. The duration of the construction hours is 1,101. This results in 176 takes by Level B harassment of killer whale (0.02 groups × 8 killer whale × 1,101 hours).

Takes by Level A harassment for killer whale were not anticipated nor are they authorized.

Dall's Porpoise

One group of 15 Dall's porpoise is predicted every 2 construction months (60 days). The duration of the construction is 160 days (2.65 × the basic 60 day period that corresponds to 2 construction months). This results in 15 takes by Level B harassment of Dall's porpoise (15 Dall's porpoise × 2.65 2-month periods = 39 takes by Level B harassment).

During DTH activities, the Level A harassment isopleth is larger than the shutdown zone, but smaller than the Level B harassment isopleth. Estimated take by Level A harassment for these activities results in 0.48 takes based on (15.62 km²/1,285.9 km²) × 40 exposures = 0.48. During all impact pile driving, the Level A harassment isopleth is larger than the Level B harassment isopleth. Estimated take by Level A harassment for these activities result in 18.4 based on 1 group × 15 Dall's porpoise × 0.86 months of 42-inch impact pile driving and 1 group × 15 Dall's porpoise × 0.37 months of 30-inch impact pile driving (12.9 + 5.5 = 18.4 takes by Level A harassment).

Takes by Level B harassment were modified to deduct the authorized amount of take by Level A harassment (i.e., 39−18.4−0.48 = 20). Therefore, NMFS authorizes 19 takes by Level A harassment and 20 takes by Level B harassment for Dall's porpoise, for a total of 39 takes.

Harbor Porpoise

One group of three harbor porpoise is predicted every 1 construction month. The duration of the construction is 5 months. This results in 15 takes by Level B harassment of harbor porpoise (1 group × 3 harbor porpoise × 5 months).

During DTH activities, the Level A harassment isopleth is larger than the shutdown zone, but smaller than the Level B harassment isopleth. Estimated take by Level A harassment during these activities results in 0.18 based on (15.6 km²/1,285.9 km²) × 15 harbor porpoise exposures. During all impact pile driving activities, the Level A harassment isopleth is larger than the Level B harassment isopleth. This results in 8.8 takes by Level A harassment based on 1 group × 3 harbor porpoise × 0.17 months of 42-inch impact pile driving and 1 group × 3 harbor porpoise × 0.73 months of 30-inch impact pile driving (i.e., 5.1 + 3.73 = 8.83).

Takes by Level B harassment were modified to deduct the authorized amount of take by Level A harassment (i.e., 15−8.83−0.18 = 6). Therefore, NMFS authorizes 6 takes by Level A harassment and 9 takes by Level B harassment for harbor porpoise, for a total of 15 takes.

Northern Fur Seal

To account for the unlikely but small possibility that northern fur seals could occur in the project area NMFS estimates that one group of one northern fur seal could occur in the project area each construction month either in the Level B or Level A harassment isopleth. As such, NMFS authorizes a maximum total of five takes of northern fur seal by either Level B or Level A harassment.

Steller Sea Lion

A total of 0.09 groups of one Steller sea lion is predicted every construction hour. The duration of the construction is 1,101 hours. This results in 99 takes by Level B harassment of Steller sea lion (0.09 Steller sea lion × 1 group × 1,101 hours = 99 takes by Level B harassment).

During DTH activities, the Level A harassment isopleth is larger than the shutdown zone, but smaller than the Level B harassment isopleth. Estimated take by Level A harassment for these activities results in 0.0007 based on (0.91 km²/1,285.9 km²) × 154 exposures.

Monitoring data collected during work completed at the project site in 2021 and 2024 indicate that Steller sea lion occasionally occur within the project area, within 200 m from shore; on 6 days in 2021, 7 Steller sea lion were observed between 25 m and 175 m from the project site. On 3 days in 2024, 6 Steller sea lion were observed between 100 and 200 m of the project site. Because Steller sea lion typically inhabit areas closer to shore rather than distances represented by the largest level B harassment isopleth (39,811 m), NMFS determined that the method above could underestimate potential take by Level A harassment. NMFS accordingly estimated additional takes by Level A harassment by determining the ratio of Steller sea lion that were observed beyond the shutdown zone isopleth compared to the Steller sea lion that were observed closer to construction activities during the EAS fuel pier emergency repair that was completed in 2021 and EAS fuel pier repair activities completed in 2024. However, all Steller sea lion reported by PSOs during that project were reported within the established shutdown zone (n = 13). To be conservative, NMFS assumes that a small proportion (10 percent) of Steller sea lion predicted to occur within the project area during construction could occur outside of the shutdown zone. As such, NMFS predicts that 10 Steller sea lion (99 total exposures × 0.1 = 9.9 takes by Level A harassment).

Takes by Level B harassment were modified to deduct the authorized amount of take by Level A harassment (i.e., 99−10 = 89 takes by Level B harassment). Therefore, NMFS authorizes 10 takes by Level A harassment and 89 takes by Level B harassment for Steller sea lion, for a total of 154 takes.

Harbor Seal

A total of 0.45 groups of one harbor seal is predicted every construction hour. This is increased from the predicted 0.14 groups of one harbor seal every construction hour used in the 2024 IHA due to application of the most recent monitoring data. The duration of the construction hours is 1,101. This results in 495 takes by Level B harassment of harbor seal based on 0.45 harbor seal × 1 group × 1,101 hours.

During DTH activities, the Level A harassment isopleth is larger than the shutdown zone, but smaller than the Level B harassment isopleth. Estimated take by Level A harassment for these activities results in 2.0 based on (4.8 km²/1,285.9 km²) × 495 exposures.

Because harbor seals typically inhabit areas closer to shore rather than distances represented by the largest Level B harassment zone (39,811 m), NMFS determined that the method above could underestimate potential take by Level A harassment. NMFS accordingly estimated additional takes by Level A harassment by determining the ratio of harbor seals that were observed beyond the shutdown zone isopleth compared to the harbor seals that were observed closer to construction activities during the EAS fuel pier emergency repair that was completed in 2021 and EAS fuel pier repair activities completed in 2024 (i.e., 14/67 = 0.21 harbor seals). We then multiplied this ratio by the total number of estimated harbor seal exposures to determine take by Level A harassment (i.e., 0.21 × 495 exposures = 104) for a total of 146 takes by Level A harassment (2.0 + 104 = 106).

Additionally, during impact pile driving of 42-inch piles, the Level A harassment isopleth is larger than the Level B harassment isopleth. Estimated take by Level A harassment during these activities results in 70.2 based on 0.45 harbor seal × 1 group × 156 hours.

Takes by Level B harassment were modified to deduct the authorized amount of take by Level A harassment (i.e., 495−106−70 = 319 takes by Level B harassment).

Therefore, NMFS authorizes 176 takes by Level A harassment and 319 takes by Level B harassment for harbor seal, for a total of 495 takes.

See table 6 for all authorized take numbers, by species, and the respective amount of the population that take represents.

Table 6—Authorized Take by Stock and Harassment Type and as a Percentage of Stock Abundance
Species | Stock | Authorized take: Level B harassment | Authorized take: Level A harassment | Authorized take as a percentage of stock abundance
Fin whale | Northeast Pacific | 14 | 7 | <1
Humpback whale | Western North Pacific | 3 | 1 | <1
| Mexico—North Pacific | 10 | 2 | 1.3
| Hawai'i | 118 | 20 | <1
Minke whale | Alaska | 5 | 3 | <1
Sperm whale | North Pacific | 40 | 0 | 16.2
Baird's beaked whale | Alaska | 10 | 0 | (*)
Stejneger's beaked whale | Alaska | 8 | 0 | (*)
Killer whale | ENP Alaska Resident | 176 | 0 | 9.1
| ENP Gulf of Alaska, Aleutian Islands, and Bering Sea |  |  | 30
Dall's porpoise | Alaska | 21 | 19 | <1
Harbor porpoise | Bering Sea | 9 | 6 | <1
Northern fur seal | Eastern Pacific | 5 |  | <1
Steller sea lion | Western, U.S | 89 | 10 | <1
Harbor seal | Aleutian Islands | 319 | 176 | 9.0
* Reliable abundance estimates for these stocks are currently unavailable.

Description of Mitigation, Monitoring and Reporting Measures

The mitigation, monitoring, and reporting measures are nearly identical to those included in the Federal Register notice announcing the final 2024 IHA (89 FR 17423, May 15, 2024), and the discussion of the least practicable adverse impact included in that document remains accurate. The only change is to the size of the shutdown zones, which have been revised in accordance with the updated Level A harassment isopleths calculated using the 2024 Technical Guidance. Additionally, shutdown zones for low-frequency cetaceans are decreased to 1000 m from 2,100-2,600 m during impact and DTH activities to address issues with observability. During 2024 activities, USAF reported that PSO's were unable to reliably observe for LF cetaceans at the Level A harassment isopleth due to excessively foggy conditions. The measures included in this authorization are found below.

Establishment of Shutdown Zone—For all pile driving/removal and DTH activities, USAF will implement shutdowns within designated zones. The purpose of a shutdown zone is generally to define an area within which shutdown of the activity would occur upon sighting of a marine mammal (or in anticipation of an animal entering the defined area). Shutdown zones vary based on the activity type and marine mammal hearing group (table 7). In most cases, the shutdown zones are based on the estimated Level A harassment isopleth distances for each hearing group. However, in cases where it would be challenging to detect marine mammals at the Level A harassment isopleth, smaller shutdown zones have been established (table 7). Additionally, per the 2024 IHA, the USAF will implement a minimum shutdown zone of 25 m during all pile driving and removal activities and DTH.

Construction supervisors and crews, PSOs, and relevant USAF staff must avoid direct physical interaction with marine mammals during construction activity. If a marine mammal comes within 10 m of such activity, operations must cease and vessels must reduce speed to the minimum level required to maintain steerage and safe working conditions, as necessary to avoid direct physical interaction. If an activity is delayed or halted due to the presence of a marine mammal, the activity may not commence or resume until either the animal has voluntarily exited and been visually confirmed beyond the shutdown zone indicated in table 7, or 15 minutes have passed for delphinids or pinnipeds, or 30 minutes for all other species without re-detection of the animal.

Construction activities must be halted upon observation of a species for which incidental take is not authorized or a species for which incidental take has been authorized but the authorized number of takes has been met entering or within the harassment zone.

Table 7—Shutdown Zones
Activity | Pile diameter | Shutdown zones: LF | Shutdown zones: HF | Shutdown zones: VHF | Shutdown zones: PW | Shutdown zones: OW
Vibratory Installation and Removal | 42-in | 50 | 50 | 50 | 60 | 50
| 30-in | 25 | 25 | 25 | 30 | 25
DTH | 42-in | 1,000 | 350 | 500 | 400 | 400
| 30-in |  | 290
Impact | 42-in |  | 260
| 30-in |  | 120

Protected Species Observers (PSOs)—The number and placement of PSOs during all construction activities (described in the Visual Marine Mammal Observation section) will ensure that the entire shutdown zone is visible. USAF will employ at least two PSOs for all pile driving and DTH activities.

Monitoring for Level B Harassment—PSOs will monitor the shutdown zones and beyond to the extent that PSOs can see. Monitoring beyond the shutdown zones enables observers to be aware of and communicate the presence of marine mammals in the project areas outside the shutdown zones and thus prepare for a potential cessation of activity should the animal enter the shutdown zone. If a marine mammal enters the Level B harassment zone, PSOs will document the marine mammal's presence and behavior.

Pre and Post-Activity Monitoring—Prior to the start of daily in-water construction activity, or whenever a break in pile driving of 30 minutes or longer occurs, PSOs will observe the shutdown, Level A harassment, and Level B harassment for a period of 30 minutes. Pre-start clearance monitoring must be conducted during periods of visibility sufficient for the lead PSO to determine that the shutdown zones are clear of marine mammals. If the shutdown zone is obscured by fog or poor lighting conditions, in-water construction activity will not be initiated until the entire shutdown zone is visible. Pile driving may commence following 30 minutes of observation when the determination is made that the shutdown zones are clear of marine mammals. If a marine mammal is observed entering or within shutdown zones, pile driving activity must be delayed or halted. If pile driving is delayed or halted due to the presence of a marine mammal, the activity may not commence or resume until either the animal has voluntarily exited and been visually confirmed beyond the shutdown zone or 15 minutes have passed for delphinids or pinnipeds or 30 minutes have passed for all other species without re-detection of the animal. If a marine mammal for which Level B harassment take is authorized is present in the Level B harassment zone, activities would begin and Level B harassment take would be recorded.

Soft Start—The use of soft-start procedures are believed to provide additional protection to marine mammals by providing warning and/or giving marine mammals a chance to leave the area prior to the hammer operating at full capacity. For impact pile driving, contractors are required to provide an initial set of three strikes from the hammer at reduced energy, with each strike followed by a 30-second waiting period. This procedure will be conducted a total of three times before impact pile driving begins. Soft start will be implemented at the start of each day's impact pile driving and at any time following cessation of impact pile driving for a period of 30 minutes or longer. Soft start is not required during vibratory pile driving and removal activities.

Visual Marine Mammal Observation—Monitoring must be conducted by qualified marine mammal observers (MMOs), who are trained biologists, with minimum qualifications described in the Federal Register notice of the issuance of the 2024 IHA (89 FR 17423, March 11, 2024). In order to effectively monitor the pile driving monitoring zones, two trained PSOs must be positioned at the best practical vantage point(s) as described in the Federal Register notice of the issuance of the 2024 IHA. PSOs shall record specific information on the sighting forms as described in the Federal Register notice of the issuance of the 2024 IHA. At the conclusion of the in-water construction work, USAF will provide NMFS with a monitoring report that includes information described in the 2024 IHA Federal Register Notice.

Determinations

USAF plans to conduct activities nearly identical to those covered in the previous 2024 IHA. We have revised the Level A harassment and mitigation zones to incorporate and address the 2024 Technical Guidance, which results in different Level A harassment isopleths.

When issuing the 2024 IHA, NMFS found the EAS Fuel Pier repair project, in its entirety, would have a negligible impact to species or stocks' rates of recruitment and survival and the amount of taking would be small relative to the population size of such species or stock (less than 3 percent for all stocks except sperm whale, killer whale, and harbor seal, which are less than 30 percent). As described above, the total number of authorized takes for each stock are the same as the takes authorized in the 2024. In cases where take by Level A harassment has increased, it has only increased a small amount (take by Level A harassment has increased by 4 for fin whale, by 6 for Dall's porpoise, by 1 for harbor porpoise, and by 21 by harbor seal. While no take by Level A harassment was authorized under the 2024 IHA for Steller sea lion and northern fur seal, only a small amount is authorized through this IHA. The anticipated impacts from the project are similar to those previously analyzed. The IHA includes the same monitoring, and reporting measures as the 2024 IHA and the shutdown zones have been revised to address the new Level A harassment isopleths calculated from the 2024 technical guidance. In conclusion, there is no new information suggesting that our analysis or findings should change.

Based on the information contained here and in the referenced documents, NMFS has determined the following: (1) the required mitigation measures will affect the least practicable impact on marine mammal species or stocks and their habitat; (2) the authorized takes will have a negligible impact on the affected marine mammal species or stocks; (3) the authorized takes represent small numbers of marine mammals relative to the affected stock abundances; (4) USAF's activities will not have an unmitigable adverse impact on taking for subsistence purposes as no relevant subsistence uses of marine mammals are implicated by this action, and (5) appropriate monitoring and reporting requirements are included.

Endangered Species Act (ESA)

There are four marine mammal species (western Distinct Population Segment (DPS) Steller sea lion, fin whale (northeast Pacific), humpback whale (Mexico—North Pacific and western North Pacific), and sperm whale (North Pacific)) with confirmed occurrence in the project area that are listed as endangered under the ESA. The NMFS Alaska Regional Office issued a Biological Opinion under Section 7 of the ESA on the issuance of an IHA to USAF under section 101(a)(5)(D) of the MMPA by NMFS Office of Protected Resources. The Biological Opinion concluded that the action is not likely to jeopardize the continued existence of the listed species and is not likely to destroy or adversely modify critical habitat.

National Environmental Policy Act

To comply with the National Environmental Policy Act of 1969 (NEPA; 42 U.S.C. 4321 et seq.) and NOAA Administrative Order (NAO) 216-6A, NMFS must review our proposed action (i.e., the issuance of an IHA) with respect to potential impacts on the human environment.

This action is consistent with categories of activities identified in Categorical Exclusion B4 (IHAs with no anticipated serious injury or mortality) of the Companion Manual for NAO 216-6A, which do not individually or cumulatively have the potential for significant impacts on the quality of the human environment and for which we have not identified any extraordinary circumstances that would preclude this categorical exclusion. Accordingly, NMFS has determined that the issuance of the IHA qualifies to be categorically excluded from further NEPA review.

Authorization

NMFS has issued an IHA to USAF for the potential harassment of small numbers of 12 marine mammal species incidental to conducting the EAS Fuel Pier Repair in Alcan Harbor on Shemya Island, Alaska that includes the previously explained mitigation, monitoring, and reporting requirements.

Dated: April 22, 2025.
Catherine Marzin,
Deputy Director, Office of Protected Resources, National Marine Fisheries Service.

[FR Doc. 2025-07168 Filed 4-24-25; 8:45 am]

BILLING CODE 3510-22-P